DEPARTMENT OF TRANSPORTATION

Federal Aviation Administration

14 CFR Part 97

[Docket No. 31207; Amdt. No. 3812]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective August 17, 2018. The compliance date for each SIAP, associated Takeoff Minimums, and ODP is specified in the amendatory provisions.

The incorporation by reference of certain publications listed in the regulations is approved by the Director of the Federal Register as of August 17, 2018.

ADDRESSES: Availability of matter incorporated by reference in the amendment is as follows:

For Examination

1. U.S. Department of Transportation, Docket Ops-M30, 1200 New Jersey Avenue SE, West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420) Flight Technologies and Procedures Division, Flight Standards Service, Federal Aviation Administration, Mike Monroney Aeronautical Center, 6500 South MacArthur Blvd., Oklahoma City, OK 73169 (Mail Address: P.O. Box 25082 Oklahoma City, OK. 73125) telephone: (405) 954-4164.

SUPPLEMENTARY INFORMATION: This rule amends Title 14, Code of Federal Regulations, part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on July 27, 2018.
Rick Domingo,
Executive Director, Flight Standards Service.

Adoption of the Amendment

Accordingly, pursuant to the authority delegated to me, Title 14, Code of Federal regulations, part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
13-Sep-18 | ID | Coeur D'Alene | Coeur D'Alene—Pappy Boyington Field | 8/0531 | 7/23/18 | ILS OR LOC/DME RWY 6, Amdt 5D.
13-Sep-18 | AK | Homer | Homer | 8/1026 | 7/23/18 | LOC RWY 4, Amdt 11A.
13-Sep-18 | CA | Palm Springs | Bermuda Dunes | 8/1171 | 7/10/18 | RNAV (GPS) RWY 28, Orig.
13-Sep-18 | CA | Palm Springs | Bermuda Dunes | 8/1175 | 7/10/18 | VOR-C, Orig-A.
13-Sep-18 | MO | Salem | Salem Memorial | 8/1892 | 7/25/18 | RNAV (GPS) RWY 17, Orig.
13-Sep-18 | MO | Salem | Salem Memorial | 8/1893 | 7/25/18 | RNAV (GPS) RWY 35, Orig.
13-Sep-18 | TX | Graham | Graham Muni | 8/1894 | 7/25/18 | RNAV (GPS) RWY 3, Orig.
13-Sep-18 | TX | Graham | Graham Muni | 8/1899 | 7/25/18 | RNAV (GPS) RWY 21, Orig.
13-Sep-18 | NC | Elizabethtown | Curtis L Brown Jr Field | 8/1954 | 7/10/18 | RNAV (GPS) RWY 33, Orig.
13-Sep-18 | MD | Churchville | Harford County | 8/2250 | 7/23/18 | RNAV (GPS)-B, Orig.
13-Sep-18 | MO | St Louis | Creve Coeur | 8/2299 | 7/23/18 | RNAV (GPS) RWY 34, Amdt 1.
13-Sep-18 | MO | St Louis | Creve Coeur | 8/2302 | 7/23/18 | VOR-A, Amdt 5.
13-Sep-18 | MO | St Louis | Creve Coeur | 8/2309 | 7/23/18 | RNAV (GPS) RWY 16, Amdt 1A.
13-Sep-18 | AL | Troy | Troy Muni At N Kenneth Campbell Field | 8/2470 | 7/23/18 | RNAV (GPS) RWY 25, Amdt 3.
13-Sep-18 | MD | Ocean City | Ocean City Muni | 8/2476 | 7/25/18 | VOR-A, Amdt 3A.
13-Sep-18 | MD | Ocean City | Ocean City Muni | 8/2477 | 7/25/18 | RNAV (GPS) RWY 2, Orig-B.
13-Sep-18 | MD | Ocean City | Ocean City Muni | 8/2478 | 7/25/18 | RNAV (GPS) RWY 32, Orig-B.
13-Sep-18 | MD | Ocean City | Ocean City Muni | 8/2479 | 7/25/18 | RNAV (GPS) RWY 14, Orig-F.
13-Sep-18 | MD | Ocean City | Ocean City Muni | 8/2480 | 7/25/18 | LOC RWY 14, Amdt 2A.
13-Sep-18 | IN | Indianapolis | Indy South Greenwood | 8/2629 | 7/25/18 | RNAV (GPS) RWY 19, Amdt 1B.
13-Sep-18 | WI | Neillsville | Neillsville Muni | 8/2675 | 7/25/18 | RNAV (GPS) RWY 28, Orig.
13-Sep-18 | WI | Rhinelander | Rhinelander—Oneida County | 8/3121 | 7/25/18 | Takeoff Minimums and Obstacle DP, Amdt 4.
13-Sep-18 | GA | Griffin | Griffin—Spalding County | 8/3323 | 7/23/18 | RNAV (GPS) RWY 14, Orig-D.
13-Sep-18 | AL | Birmingham | Birmingham—Shuttlesworth Intl | 8/3333 | 7/23/18 | RNAV (GPS) Y RWY 6, Amdt 1B.
13-Sep-18 | TX | Austin | Austin—Bergstrom Intl | 8/3410 | 7/25/18 | ILS OR LOC RWY 35L, Amdt 6.
13-Sep-18 | TX | Crosbyton | Crosbyton Muni | 8/3666 | 7/23/18 | RNAV (GPS) RWY 35, Orig-A.
13-Sep-18 | CA | Napa | Napa County | 8/3668 | 7/23/18 | ILS OR LOC RWY 36L, Orig-B.
13-Sep-18 | CA | Napa | Napa County | 8/3669 | 7/23/18 | RNAV (GPS) Y RWY 36L, Amdt 2B.
13-Sep-18 | NE | Fairbury | Fairbury Muni | 8/3783 | 7/23/18 | NDB-A, Amdt 3B.
13-Sep-18 | NE | Fairbury | Fairbury Muni | 8/3785 | 7/23/18 | RNAV (GPS) RWY 35, Orig-A.
13-Sep-18 | MD | Annapolis | Lee | 8/3830 | 7/23/18 | RNAV (GPS)-A, Orig.
13-Sep-18 | WI | Medford | Taylor County | 8/4100 | 7/23/18 | RNAV (GPS) RWY 9, Orig-A.
13-Sep-18 | WI | Medford | Taylor County | 8/4102 | 7/23/18 | RNAV (GPS) RWY 16, Orig-A.
13-Sep-18 | WI | Medford | Taylor County | 8/4103 | 7/23/18 | RNAV (GPS) RWY 34, Orig-A.
13-Sep-18 | AK | Kenai | Kenai Muni | 8/4752 | 7/10/18 | RNAV (GPS) RWY 2L, Amdt 3.
13-Sep-18 | AK | Kenai | Kenai Muni | 8/4753 | 7/10/18 | RNAV (GPS) RWY 20R, Amdt 4.
13-Sep-18 | AK | Kenai | Kenai Muni | 8/4754 | 7/10/18 | VOR RWY 2L, Amdt 10.
13-Sep-18 | AK | Kenai | Kenai Muni | 8/4755 | 7/10/18 | VOR RWY 20R, Amdt 21.
13-Sep-18 | AK | Kenai | Kenai Muni | 8/4756 | 7/10/18 | Takeoff Minimums and Obstacle DP, Amdt 2.
13-Sep-18 | ND | Harvey | Harvey Muni | 8/4762 | 7/10/18 | RNAV (GPS) RWY 11, Orig.
13-Sep-18 | ND | Harvey | Harvey Muni | 8/4763 | 7/10/18 | RNAV (GPS) RWY 29, Orig-B.
13-Sep-18 | TX | Angleton/Lake Jackson | Texas Gulf Coast Rgnl | 8/5556 | 7/23/18 | RNAV (GPS) RWY 35, Amdt 2.
13-Sep-18 | TX | Angleton/Lake Jackson | Texas Gulf Coast Rgnl | 8/5557 | 7/23/18 | RNAV (GPS) RWY 17, Amdt 2.
13-Sep-18 | NY | Le Roy | Le Roy | 8/5610 | 7/25/18 | VOR-A, Amdt 1B.
13-Sep-18 | NY | Le Roy | Le Roy | 8/5616 | 7/25/18 | RNAV (GPS) RWY 28, Orig-C.
13-Sep-18 | NY | Le Roy | Le Roy | 8/5617 | 7/25/18 | RNAV (GPS) RWY 10, Orig-B.
13-Sep-18 | MA | Worcester | Worcester Rgnl | 8/5622 | 7/25/18 | RNAV (GPS) RWY 33, Orig-A.
13-Sep-18 | IL | Mount Sterling | Mount Sterling Muni | 8/5665 | 7/23/18 | RNAV (GPS) RWY 36, Orig.
13-Sep-18 | IL | Mount Sterling | Mount Sterling Muni | 8/5667 | 7/23/18 | RNAV (GPS) RWY 18, Orig.
13-Sep-18 | IA | Mapleton | James G Whiting Memorial Field | 8/5671 | 7/23/18 | RNAV (GPS) RWY 2, Orig.
13-Sep-18 | IA | Mapleton | James G Whiting Memorial Field | 8/5673 | 7/23/18 | RNAV (GPS) RWY 20, Orig.
13-Sep-18 | WV | Summersville | Summersville | 8/6177 | 7/25/18 | Takeoff Minimums and Obstacle DP, Amdt 3A.
13-Sep-18 | PA | Grove City | Grove City | 8/6588 | 7/23/18 | RNAV (GPS) RWY 28, Amdt 1A.
13-Sep-18 | PA | Grove City | Grove City | 8/6590 | 7/23/18 | RNAV (GPS) RWY 10, Amdt 1A.
13-Sep-18 | KS | Topeka | Topeka Rgnl | 8/6797 | 7/23/18 | RNAV (GPS) RWY 13, Orig-B.
13-Sep-18 | IL | Litchfield | Litchfield Muni | 8/6815 | 7/23/18 | RNAV (GPS) RWY 9, Orig.
13-Sep-18 | AR | Magnolia | Ralph C Weiser Field | 8/6897 | 7/23/18 | RNAV (GPS) RWY 36, Amdt 1A.
13-Sep-18 | TX | Houston | George Bush Intercontinental/Houston | 8/7516 | 7/23/18 | RNAV (RNP) Y RWY 27, Amdt 2.
13-Sep-18 | TX | Houston | George Bush Intercontinental/Houston | 8/7530 | 7/23/18 | RNAV (RNP) Y RWY 8L, Orig-A.
13-Sep-18 | TX | Houston | George Bush Intercontinental/Houston | 8/7531 | 7/23/18 | RNAV (RNP) Y RWY 9, Orig-A.
13-Sep-18 | OH | Shelby | Shelby Community | 8/7532 | 7/23/18 | VOR-A, Amdt 5.
13-Sep-18 | TX | Houston | George Bush Intercontinental/Houston | 8/7533 | 7/23/18 | RNAV (RNP) Y RWY 26R, Orig-C.
13-Sep-18 | CA | Van Nuys | Van Nuys | 8/7957 | 7/10/18 | LDA-C, Amdt 3.
13-Sep-18 | FL | Fort Lauderdale | Fort Lauderdale/Hollywood Intl | 8/8174 | 7/10/18 | ILS OR LOC RWY 10L, Amdt 24.
13-Sep-18 | FL | Fort Lauderdale | Fort Lauderdale/Hollywood Intl | 8/8183 | 7/10/18 | ILS OR LOC RWY 10R, Amdt 1.
13-Sep-18 | FL | Fort Lauderdale | Fort Lauderdale/Hollywood Intl | 8/8189 | 7/10/18 | ILS OR LOC RWY 28R, Amdt 11.
13-Sep-18 | FL | Fort Lauderdale | Fort Lauderdale/Hollywood Intl | 8/8201 | 7/10/18 | RNAV (GPS) RWY 10R, Amdt 1.
13-Sep-18 | FL | Fort Lauderdale | Fort Lauderdale/Hollywood Intl | 8/8211 | 7/10/18 | RNAV (GPS) RWY 28L, Amdt 1.
13-Sep-18 | FL | Fort Lauderdale | Fort Lauderdale/Hollywood Intl | 8/8232 | 7/10/18 | RNAV (RNP) Y RWY 10L, Amdt 1A.
13-Sep-18 | FL | Fort Lauderdale | Fort Lauderdale/Hollywood Intl | 8/8240 | 7/10/18 | RNAV (GPS) Y RWY 28R, Amdt 4.
13-Sep-18 | FL | Fort Lauderdale | Fort Lauderdale/Hollywood Intl | 8/8244 | 7/10/18 | RNAV (GPS) Z RWY 10L, Amdt 4.
13-Sep-18 | GA | Calhoun | Tom B David Fld | 8/8262 | 7/23/18 | RNAV (GPS) RWY 35, Amdt 1B.
13-Sep-18 | GA | Calhoun | Tom B David Fld | 8/8265 | 7/23/18 | RNAV (GPS) RWY 17, Amdt 1A.
13-Sep-18 | AL | Mobile | Mobile Downtown | 8/8670 | 7/10/18 | RNAV (GPS) RWY 14, Amdt 2.
13-Sep-18 | NJ | Ocean City | Ocean City Muni | 8/8675 | 7/10/18 | GPS RWY 6, Orig-B.
13-Sep-18 | NJ | Ocean City | Ocean City Muni | 8/8676 | 7/10/18 | VOR-A, Orig-B.
13-Sep-18 | TX | Houston | David Wayne Hooks Memorial | 8/8861 | 7/25/18 | RNAV (GPS) RWY 35L, Amdt 1C.
13-Sep-18 | TX | Houston | David Wayne Hooks Memorial | 8/8862 | 7/25/18 | RNAV (GPS) RWY 17R, Amdt 1D.
13-Sep-18 | TX | Houston | David Wayne Hooks Memorial | 8/8863 | 7/25/18 | LOC RWY 17R, Amdt 3D.
13-Sep-18 | OK | Oklahoma City | Will Rogers World | 8/9620 | 7/23/18 | VOR RWY 17L, Amdt 2.
13-Sep-18 | KS | Independence | Independence Muni | 8/9691 | 7/23/18 | RNAV (GPS) RWY 17, Amdt 2.
13-Sep-18 | MN | Moose Lake | Moose Lake Carlton County | 8/9703 | 7/25/18 | NDB RWY 4, Amdt 1.

[FR Doc. 2018-17616 Filed 8-16-18; 8:45 am]

BILLING CODE 4910-13-P